DEPARTMENT OF EDUCATION

[CFDA No.: 84.133B-9]

Office of Special Education and Rehabilitative Services; National Institute on Disability and Rehabilitation; Research Notice Inviting Applications for a New Award for a Rehabilitation Research and Training Center for Fiscal Year (FY) 2000

AGENCY: Department of Education.

ACTION: Correction Notice.

SUMMARY: On November 10, 1999 a notice inviting applications for a new award for a RRTC on rehabilitation of Minorities with Disabilities for Fiscal Year (FY) 2000 was published in the Federal Register (64 FR 61468). This notice corrects the “Maximum Award Amount Per Year” and changes the “Deadline for Transmittal of Applications” that were included in the notice. The published maximum award amount per year reads “$500,000”. It is corrected to read “$600,000”. Because of this correction, the deadline for transmittal of applications is changed. The published deadline for transmittal now reads “February 4, 2000”. It is corrected to read:

DEADLINE FOR TRANSMITTAL OF APPLICATIONS: February 18, 2000.

FOR FURTHER INFORMATION CONTACT: Grants and Contracts Service Team, 400 Maryland Avenue, SW, Room 3317, Switzer Building, Washington, DC 20202-2641. Telephone: (202) 260-9182. Individuals who use a telecommunications device for the deaf (TDD) may call the TDD number: (202) 205-8953. Internet: Delores_Watkins@ed.gov

Individuals with disabilities may obtain a copy of this notice in an alternate format (e.g., Braille, large print, audiotape, or computer diskette) on request to the contact person listed in the preceding paragraph.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 29 U.S.C. 760-762.

Dated: January 11, 2000.
Judith E. Heumann,
Assistant Secretary for Special Education and Rehabilitative Services.

[FR Doc. 00-1000 Filed 1-14-00; 8:45 am]

BILLING CODE 4000-01-U